FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than January 25, 2024.

A. Federal Reserve Bank of Chicago (Colette A. Fried, Assistant Vice President) 230 South LaSalle Street, Chicago, Illinois 60690-1414. Comments can also be sent electronically to Comments.applications@chi.frb.org:

1. Kristine L. MacDonald Ixonia Trust, Kristine L. MacDonald, as settlor, Joan P. Lubar Ixonia Trust, Joan P. Lubar, as settlor, Susan A. Lubar Ixonia Trust, Susan A. Lubar, as settlor, and Sheldon B. and Marianne Lubar Ixonia Trust, Sheldon B. and Marianne Lubar, as co-settlors, all of Milwaukee, Wisconsin; David J. Lubar, as trustee to all the aforementioned trusts, Fox Point, Wisconsin; Ixonia Control Trust, Milwaukee, Wisconsin, David J. Lubar, as trustee, and Patrick Lubar, as secondary trustee, both of Fox Point, Wisconsin; David J. Lubar Ixonia Trust, Milwaukee, Wisconsin, David J. Lubar, as settlor, and Patrick Lubar, as trustee; and Ixonia Bancshares Investors, LP, a Delaware limited partnership and qualified family partnership, Ixonia, Wisconsin; to join the Lubar Family Control Group, a group acting in concert, to acquire voting shares of Ixonia Bancshares, Inc., and thereby indirectly acquire voting shares of Ixonia Bank, both of Ixonia, Wisconsin. This notification replaces the document published on November 15, 2023 at 88 FR 78362.

A. Federal Reserve Bank of Kansas City (Jeffrey Imgarten, Assistant Vice President) One Memorial Drive, Kansas City, Missouri, 64198-0001. Comments can also be sent electronically to KCApplicationComments@kc.frb.org:

1. Adams Land Improvement, Inc., Arapahoe, Nebraska; to acquire voting shares of Central Bancshares, Inc., and thereby indirectly acquire voting shares of First Central Bank, both of Cambridge, Nebraska, First Central Bank McCook, McCook, Nebraska, Republic Corporation and United Republic Bank, both of Omaha, Nebraska.

2. Marcus Houghton and Corbin Houghton, both of Wichita, Kansas; to acquire additional voting shares of PBT Bancshares, Inc., and thereby indirectly acquire additional voting shares of Peoples Bank and Trust Company, both of McPherson, Kansas. Additionally, Corbin Houghton to become a member of the Houghton Family Control Group, a group acting in concert.

Board of Governors of the Federal Reserve System.
Ann E. Misback,
Secretary of the Board.

[FR Doc. 2024-00360 Filed 1-9-24; 8:45 am]

BILLING CODE P